DEPARTMENT OF COMMERCE

National Oceanic and Atmospheric Administration

Interagency Marine Debris Coordinating Committee Meeting

AGENCY: National Ocean Service (NOS), National Oceanic and Atmospheric Administration (NOAA), Department of Commerce (DOC).

ACTION: Notice of open meeting.

SUMMARY: Notice is hereby given of a virtual public meeting of the Interagency Marine Debris Coordinating Committee (IMDCC). IMDCC members will discuss federal marine debris activities, with a particular emphasis on the topics identified in the section on Matters to Be Considered.

DATES: The virtual public meeting will be held on September 29, 2021 from 10 a.m. to 11 a.m. ET.

ADDRESSES: The meeting will be held virtually using Google Meet. Refer to the Interagency Marine Debris Coordinating Committee website at https://marinedebris.noaa.gov/IMDCC for information on how to participate online and the most up-to-date agenda. If you are unable to participate online, you can also connect to the meeting using the phone number provided: Phone: +1 570-481-1237, PIN: 363 843 510#.

FOR FURTHER INFORMATION CONTACT: Ya'el Seid-Green, Executive Secretariat, Interagency Marine Debris Coordinating Committee, Marine Debris Program, 1305 East-West Highway, Silver Spring, MD 20910; Phone 240-533-0399; Email yael.seid-green@noaa.gov or visit the Interagency Marine Debris Coordinating Committee website at https://marinedebris.noaa.gov/IMDCC. To register for the meeting, contact Ya'el Seid-Green, yael.seid-green@noaa.gov.

SUPPLEMENTARY INFORMATION: The Interagency Marine Debris Coordinating Committee (IMDCC) is a multi-agency body responsible for coordinating a comprehensive program of marine debris research and activities among Federal agencies, in cooperation and coordination with non-governmental organizations, industry, academia, states, Tribes, and other nations, as appropriate. Representatives meet to share information, assess and promote best management practices, and coordinate the Federal Government's efforts to address marine debris.

The Marine Debris Act establishes the IMDCC (33 U.S.C. 1954). The IMDCC submits biennial progress reports to Congress with updates on activities, achievements, strategies, and recommendations. The National Oceanic and Atmospheric Administration serves as the Chairperson of the IMDCC.

The meeting will be open to public attendance on September 29, 2021 from 10 a.m. to 11 a.m. ET. There will not be a public comment period.

Matters To Be Considered

The open meeting will include presentations on the Fiscal Year 2021 achievements and Fiscal Year 2022 planned activities of the participating agencies. The agenda topics described are subject to change. The latest version of the agenda will be posted at https://marinedebris.noaa.gov/IMDCC.

Special Accomodations

The meeting is accessible to people with disabilities. Requests for sign language interpretation or other auxiliary aids should be directed to Ya'el Seid-Green, Executive Secretariat at yael.seid-green@noaa.gov or 240-533-0399 by September 17, 2021.

Scott Lundgren,
Director, Office of Response and Restoration, National Ocean Service, National Oceanic and Atmospheric Administration.

[FR Doc. 2021-19064 Filed 9-2-21; 8:45 am]

BILLING CODE 3510-NK-P